DEPARTMENT OF COMMERCE

Bureau of Industry and Security

Action Affecting Export Privileges; Walter L. Lachman; Correction

In the Federal Register of Tuesday, March 20, 2007, the Bureau of Industry and Security published an Order denying the export privileges of Walter L. Lachman at 13083. This notice is being published to correct certain standard language regarding the scope of the “Denied Person” in that Order, which was defined in a way that made Walter L. Lachman appear as a corporation rather than an individual. Paragraph I of the text of the Order currently defines the scope of the “Denied Person” as follows: “* * * Walter L. Lachman, 1159 Old Marlboro Road, Concord, MA 01742, his successors or assigns, and when acting for or on behalf of Lachman, his officers, representatives, agents, or employees * * *.” This language should instead read as follows: “* * * Walter L. Lachman, 1159 Old Marlboro Road, Concord, MA 01742, and when acting for or on behalf of Lachman, his representatives, assigns, agents, or employees * * *.”

Dated: July 31, 2007.
Eileen M. Albanese,
Director, Office of Exporter Services.

[FR Doc. 07-3887 Filed 8-8-07; 8:45 am]

BILLING CODE 3510-DT-M